DEPARTMENT OF HOUSING AND URBAN DEVELOPMENT

[Docket No. FR-6401-N-02A]

Fair Market Rents for the Housing Choice Voucher Program, Moderate Rehabilitation Single Room Occupancy Program, and Other Programs; Fiscal Year 2024; Correction

AGENCY: Office of the Assistant Secretary for Policy Development and Research, U.S. Department of Housing and Urban Development (HUD).

ACTION: Notice; correction.

SUMMARY: The Department of the Housing and Urban Development (HUD) published a document in the Federal Register of August 31, 2023, a notice of adjustment to Fair Market Rents (FMRs) for the fiscal year. The notice established FMRs for fiscal year 2024, but mistakenly identified October 1, 2024, as the effective date of the revised FMRs. This notice corrects the effective date to be October 1, 2023.

FOR FURTHER INFORMATION CONTACT: For technical information on the methodology used to develop FMRs or a listing of all FMRs, please call the HUD USER information line at 800-245-2691 or access the information on the HUD USER website at https://www.huduser.gov/portal/datasets/fmr.html.

SUPPLEMENTARY INFORMATION:

Correction

In the Federal Register of August 31, 2023, in FR Doc 2023-18402, on page 60223, in the third column, in the DATES caption, revise the last sentence to read as follows: Effective Date of Revised FMRs: October 1, 2023, unless HUD receives a valid request for reevaluation of specific area FMRs as described below.

Aaron Santa Anna
Associate General Counsel, Office of Legislation and Regulations.

[FR Doc. 2023-19156 Filed 8-31-23; 4:15 pm]

BILLING CODE 4210-67-P